DEPARTMENT OF THE INTERIOR

National Park Service

[NPS-WASO-NAGPRA-NPS0033902; PPWOCRADN0-PCU00RP14.R50000]

Notice of Inventory Completion: U.S. Department of the Interior, Bureau of Reclamation, Oklahoma-Texas Area Office, Oklahoma City, OK

AGENCY: National Park Service, Interior.

ACTION: Notice.

SUMMARY: The Bureau of Reclamation, Oklahoma-Texas Area Office (Reclamation), has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Reclamation. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Reclamation at the address in this notice by June 13, 2022.

FOR FURTHER INFORMATION CONTACT: Kate Ellison, Bureau of Reclamation, Oklahoma-Texas Area Office, 5924 NW 2nd Street, Suite 200, Oklahoma City, OK 73127, telephone (405) 470-4816, email kellison@usbr.gov.

SUPPLEMENTARY INFORMATION: Notice is here given in accordance with the Native American Graves Protection and Repatriation Act (NAGPRA), 25 U.S.C. 3003, of the completion of an inventory of human remains and associated funerary objects under the control of the U.S. Department of the Interior, Bureau of Reclamation, Oklahoma City, OK. The human remains and associated funerary objects were removed from Caddo, Custer, Greer, and Kiowa Counties, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Reclamation professional staff in consultation with representatives of the Wichita and Affiliated Tribes (Wichita, Keechi, Waco, & Tawakonie), Oklahoma. The Cheyenne and Arapaho Tribes, Oklahoma [previously listed as Cheyenne-Arapaho Tribes of Oklahoma] were contacted but deferred to the Wichita and Affiliated Tribes (Wichita, Keechi, Waco, & Tawakonie), Oklahoma based on the radiocarbon dates at the sites. Representatives of the Absentee-Shawnee Tribe of Oklahoma were also contacted but declined to consult on these human remains, based on the provenience of the remains being outside of their traditional territory.

History and Description of the Remains

At an unknown date, human remains representing, at minimum, one individual were removed from site 34GR4 in Greer County, OK. The human remains were housed at the Sam Noble Oklahoma Museum of Natural History, in Norman, OK, before being moved to the Museum of the Great Plains. The human remains consist of a single tooth, from an individual no younger than 7 years old. No known individual was identified. No associated funerary objects are present.

On March 9, 1971, human remains representing, at minimum, one individual were removed from the Edwards I site (34CU11) in Custer County, OK. The human remains were housed at the Stovall Museum, in Norman, OK, before being moved to the Museum of the Great Plains. The human remains belong to a male 20-25 years old. No known individual was identified. No associated funerary objects are present.

In October of 1989, human remains representing, at minimum, one individual were removed from the Edwards II site (34CU15) in Custer County, OK. The human remains were donated to the Stovall Museum in October 1989 and were later brought to the Museum of the Great Plains. The human remains belong to a male 40-50 years old. No known individual was identified. No associated funerary objects are present.

On April 5, 1955, human remains representing, at minimum, one individual were removed from the Mouse I site (34CU25) in Custer County, OK. The human remains were encountered during the initial recording of the site and were housed at the Stovall Museum from the time they were excavated until sometime before 2005, when they were transferred to the Museum of the Great Plains. The human remains belong to a child 1.5-2.5 years old. No known individual was identified. The 45 associated funerary objects are 31 bone beads, seven faunal fragments, six shell fragments, and one ceramic sherd.

On October 4, 1966, human remains representing, at minimum, one individual were removed from the Mouse I site (34CU25) in Custer County, OK, by a student from the University of Oklahoma. The human remains were kept at the Stovall Museum until 2012, when they were moved to the Museum of the Great Plains. The human remains belong to a female 20-30 years old. No known individual was identified. The 66 associated funerary objects are 54 faunal fragments, two shell fragments, two flaked stones, two hammerstones, one metate, and five pottery fragments.

In May of 1984, human remains representing, at minimum, one individual were removed from the Mouse I site (34CU25) in Custer County, OK, by a fisherman. Initially, the human remains were transferred by the County to the Oklahoma Medical Examiner's Office in Oklahoma City. Subsequently, the human remains were transferred to the Bureau of Reclamation (also in 1984) and taken to the Museum of the Great Plains. The human remains belong to a female 30-40 years old. No known individual was identified. The 19 associated funerary objects are faunal fragments.

In 1986, human remains representing, at minimum, one individual were removed from the Mouse I site (34CU25) in Custer County, OK. In 1987, the human remains were brought to the Oklahoma Archeological Survey. Sometime between 1987 and 1995, the human remains were moved to the Oklahoma Museum of Natural History. They are currently at the Museum of the Great Plains. The human remains belong to a male 60+ years old. No known individual was identified. No associated funerary objects are present.

The Mouse I site (34CU25) was radiocarbon dated and determined to be A.D. 950 +/- 100. It was consistent with the site representing an early post-Woodland occupation. The Phillips site (34CU11) and the Mouse I site (34CU25) are Custer Focus sites and the dates cluster around A.D. 930 +/- 30 and have a range from A.D. 740 to 1040.

On March 2, 1968, human remains representing, at minimum, one individual were removed from site 34GR3 in Greer County, OK, by local collectors. At an unknown date, the human remains were turned over to the Oklahoma Archeological Survey, and in 1995, they were taken to the Museum of the Great Plains. The human remains belong to a child 9-14 years old. No known individual was identified. The two associated funerary objects are faunal fragments.

On September 14, 1978 and August 28, 1984, human remains representing, at minimum, one individual were removed from site 34GR3 in Greer County, OK. On September 14, 1978 a local collector found human remains eroding from the shoreline, and on August 28, 1984, additional human remains were found eroding out of the shoreline and were excavated. The human remains were examined on October 3, 1984 and taken to the Museum of the Great Plains. The human remains belong to a male 24-29 years old. No known individual was identified. No associated funerary objects are present.

Sometime prior to 1984, human remains representing, at minimum, one individual were removed from site 34GR3 in Greer County, OK. In 1995, the human remains were taken to the Museum of the Great Plains. The human remains belong to an adult of unknown sex and age. No known individual was identified. No associated funerary objects are present.

On March 14, 1964, human remains representing, at minimum, two individuals were removed from the Rattlesnake Slough site (34GR4) in Greer County, OK. The human remains were found within the collection of the Museum of the Great Plains. No other information is available except for an accompanying piece of paper noting the excavation date. The human remains belong to two adults of unknown sex and age. No known individuals were identified. No associated funerary objects are present.

Sometime between 1964 and1995, human remains representing, at minimum, four individuals were removed from the Rattlesnake Slough site (34GR4) in Greer County, OK, and taken to the Wichita State University for analysis. Currently, the human remains are at the Museum of the Great Plains. The human remains belong to two adults of unknown sex and age, a subadult of unknown sex, and a child 1-3 years old. No known individuals were identified. No associated funerary objects are present.

On September 5, 1966, human remains representing, at minimum, one individual were removed from the Rattlesnake Slough site (34GR4) in Greer County, OK. The human remains were found exposed along a roadway and salvaged by local collectors. The human remains belong to an adult male 20-24 years old. The ulna has a projectile point embedded in it and is surrounded by bone-growth, indicating that the wound was not fatal. On September 6, 1966, the human remains, minus the ulna, were turned over to the Stovall Museum, and in 2017, the ulna was transferred to the Museum of the Great Plains. No known individual was identified. The 21 associated funerary objects are one quartzite knife, one hammerstone, 13 flakes, one core, one projectile point, two mussel shell fragments, one turtle shell fragment, and one tool fragment.

On February 16, 1967, human remains representing, at minimum, one individual were removed from the Rattlesnake Slough site (34GR4) in Greer County, OK, by local collectors. One local collector reported the discovery to a University of Oklahoma professor. Initially, the human remains were taken to the Oklahoma Museum of Natural History. Currently, they are at the Museum of the Great Plains. The human remains belong to a subadult 15-18 years old of unknown sex. No known individual was identified. The eight associated funerary objects are one shell bead, four flakes, one hammerstone, and two faunal fragments.

On January 4, 1968, human remains representing, at minimum, one individual were removed from the Rattlesnake Slough site (34GR4) in Greer County, OK. The human remains were recovered and stored at the Stovall Museum. Currently, they are housed at the Museum of the Great Plains. The human remains belong to an adult of unknown sex and age. No known individual was identified. No associated funerary objects are present.

On May 29, 1979, human remains representing, at minimum, one individual were removed from the Rattlesnake Slough site (34GR4) in Greer County, OK. After the human remains were located on a roadway, they were removed and taken to the Stovall Museum. In 1996, the human remains were loaned to Wichita State University. Currently, the human remains are at the Museum of the Great Plains. The human remains belong to a subadult of unknown sex. No known individual was identified. No associated funerary objects are present.

In 1982, human remains representing, at minimum, one individual were removed from the Rattlesnake Slough site (34GR4) in Greer County, OK, by local collectors and brought to the Oklahoma Museum of Natural History. Currently, the human remains are at the Museum of the Great Plains. The human remains belong to an adult of unknown sex and age. No known individual was identified. The seven associated funerary objects are one shell fragment, three flakes, and three faunal fragments.

Between May and August of 1984, human remains representing, at minimum, one individual were removed from the Rattlesnake Slough site (34GR4) in Greer County, OK. The human remains were initially stored at Reclamation's Southwest Regional Office in Amarillo, TX. On September 19, 1985, they were taken to the Oklahoma Archeological Survey for analysis and then transferred to the Oklahoma Museum of Natural History. Currently, the human remains are at the Museum of the Great Plains. The human remains belong to an adult of unknown sex and age. No known individual was identified. No associated funerary objects are present.

In May of 1985, human remains representing, at minimum, one individual were removed from the Rattlesnake Slough site (34GR4) in Greer County, OK, by an unknown person. Currently, the human remains are at the Museum of the Great Plains. The human remains belong to an adult of unknown sex and age. No known individual was identified. No associated funerary objects are present.

On October 4, 1964, human remains representing, at minimum, one individual were removed from the Hotel site (34GR5) in Greer County, OK. Currently, the human remains are at the Museum of the Great Plains. The human remains belong to a child 2-2.5 years old of unknown sex. No known individual was identified. No associated funerary objects are present.

Sometime between 1964 and1995, human remains representing, at minimum, two individuals were removed from the Hotel site (34GR5) in Greer County, OK. Currently, the human remains are at the Museum of the Great Plains. The human remains belong to two adults of unknown sex and age. No known individuals were identified. No associated funerary objects are present.

On August 31, 1967, human remains representing, at minimum, one individual were removed from the Hotel site (34GR5) in Greer County, OK. The human remains were found partially exposed on the Lake Altus shore and were excavated by local collectors. Initially, the human remains were taken to the Stovall Museum. Currently, they are housed at the Museum of the Great Plains. The human remains belong to an adult male 50-60 years old. No known individual was identified. The five associated funerary objects are faunal fragments.

On October 15, 1967, human remains representing, at minimum, one individual were removed from the Hotel site (34GR5) in Greer County, OK, by local collectors. The human remains are located at the Museum of the Great Plains. The human remains belong to an adult male 30-40 years old. No known individual was identified. The three associated funerary objects are two faunal fragments and one Scallorn projectile point.

On February 27, 1968, human remains representing, at minimum, two individuals were removed from the Hotel site (34GR5) in Greer County, OK, by local collectors. The human remains are located at the Museum of the Great Plains. The human remains belong to an adult female believed to be 30-35 years old and an adult of unknown sex and age. No known individuals were identified. The 11 associated funerary objects are one flake and 10 faunal fragments.

On August 12, 1971, human remains representing, at minimum, one individual were removed from the Hotel site (34GR5) in Greer County, OK. After the human remains were found exposed on the surface by local collectors, they were excavated and taken to the Stovall Museum. Currently, they are housed at the Museum of the Great Plains. The human remains belong to an adult of unknown sex and age. No known individual was identified. No associated funerary objects are present.

On October 5, 1985, human remains representing, at minimum, 11 individuals were removed from the Hotel site (34GR5) in Greer County, OK. After human remains were found on the shore of Lake Altus by local collectors, salvage excavations were conducted by Reclamation archeologists. The human remains were briefly stored at the Reclamation office in Amarillo, TX, and Eastern New Mexico University, Portales, NM, while undergoing analysis. From there they were moved to the Sam Noble Oklahoma Museum of Natural History. In 2011, they were moved to the Museum of the Great Plains. The human remains belong to five adults of unknown sex and age; one female believed to be 40-45 years old; one male believed to be 55-60 years old; and four children of unknown sex believed to be, respectively, 1.5-2.0 years old, 1.5-2.5 years old, 4.0-4.5 years old, and 5-7 years old). No known individuals were identified. The 53 associated funerary objects are 42 faunal fragments, nine flakes, one biface fragment, and one shell fragment.

In 1956, human remains representing, at minimum, two individuals were removed from site 34GR6 in Greer County, OK. According to accompanying documentation, the human remains were salvaged by a local collector. The human remains are located at the Museum of the Great Plains. They belong to two adult females believed to be, respectively, 40-45 years old and 50-55 years old. No known individuals were identified. The three associated funerary objects are flakes.

In January of 1964, human remains representing, at minimum, six individuals were removed from site (34GR6) in Greer County, OK. They were removed by a local collector and stored at his home in Altus, OK. In October of 1965, he donated the human remains to the Panhandle-Plains Historical Museum in Canyon, TX. On May 24, 1995, Reclamation transferred the human remains to the Museum of the Great Plains. The human remains belong to two adult females believed to be, respectively, 45-55 years old and 50-60 years old, and four adults of unknown sex or age. No known individuals were identified. No associated funerary objects are present.

On October 4, 1964, human remains representing, at minimum, two individuals were removed from site 34GR6 in Greer County, OK. The human remains were excavated as part of the Wichita Mountain Survey and loaned to the University of Colorado at Boulder. Currently, the human remains are housed at the Museum of the Great Plains. The human remains belong to an adult female believed to be 30-35 years old and an adult of unknown sex or age. No known individuals were identified. The 189 associated funerary objects are 187 faunal fragments and two wood fragments.

Sometime between 1964 and1995, human remains representing, at minimum, five individuals were removed from site 34GR6 in Greer County, OK. The human remains were surface collected by local collectors. Reclamation obtained the human remains in May of 1995 and brought them to Wichita State University for inventorying. The human remains are currently housed at Museum of the Great Plains. They belong to one adult of unknown sex or age, one adult of unknown sex believed to be 30+ years old), one child believed to be 0.5-1.0 years old, one child believed to be 7-9 years old, and one child believed to be 8-12 years old. No known individuals were identified. No associated funerary objects are present.

On October 23, 1966, human remains representing, at minimum, one individual were removed from site 34GR6 in Greer County, OK, by local collectors. On June 28, 1968, the collectors donated the human remains to the Museum of the Great Plains. The human remains belong to an adult male believed to be 35-40 years old. No known individual was identified. No associated funerary objects are present.

On June 23, 1967, human remains representing, at minimum, one individual were removed from site 34GR6 in Greer County, OK, by local collectors. The human remains belong to a child believed to be 0.5-1.5 years old of unknown sex. No known individual was identified. No associated funerary objects are present.

On November 14, 1970, human remains representing, at minimum, one individual were removed from site 34GR6 in Greer County, OK, during excavations conducted by the Oklahoma Anthropological Society. The human remains were taken to the Museum of the Great Plains. They belong to a child believed to be 3.5 years old of unknown sex. No known individual was identified. The 55 associated funerary objects are one shell fragment, 20 faunal fragments, and 34 flakes.

On March 21, 1971, human remains representing, at minimum, one individual were removed from site 34GR6 in Greer County, OK, by local collectors. The human remains belong to an adult male believed to be 55-60 years old. No known individual was identified. No associated funerary objects are present.

On December 28, 1980, human remains representing, at minimum, one individual were removed from site 34GR6 in Greer County, OK, by local collectors. The human remains belong to a child believed to be 1.5-2.5 years old of unknown sex. No known individual was identified. The 11 associated funerary objects are bone beads.

On May 1, 1981, human remains representing, at minimum, one individual were removed from site 34GR6 in Greer County, OK. The human remains were excavated by Reclamation and taken to the Stovall Museum. On March 5, 1987, the human remains were accessioned into the collection at the Museum of the Great Plains. The human remains belong to an adult of unknown sex or age. No known individual was identified. The two associated funerary objects are one flake and one faunal fragment.

On February 26, 1982, human remains representing, at minimum, two individuals were removed from site 34GR6 in Greer County, OK. The human remains were discovered by local collectors. The collectors contacted the Oklahoma Archeological Survey, who informed Reclamation. The human remains were excavated by Reclamation archeologists and Quartz Mountain State Park personnel. In 1982, the human remains were evaluated and taken to the Museum of the Great Plains. The human remains belong to two adult females believed to be, respectively, 40-50 years old and 50-55 years old. No known individuals were identified. The one associated funerary object is an unmodified stone.

On March 16, 1982, human remains representing, at minimum, one individual were removed from site 34GR6 in Greer County, OK, by Reclamation archeologists. In 1982, the human remains were assessed, and on March 5, 1987, they were accessioned into the collection of the Museum of the Great Plains. The human remains belong to an adult of unknown sex believed to 30-40 years old. No known individual was identified. The 17 associated funerary objects are 14 sherds and three flakes.

On October 29, 1984, human remains representing, at minimum, one individual were removed from site 34GR6 in Greer County, OK, by Reclamation archeologists. In 1986, the human remains underwent a formal osteological analysis at the Eastern New Mexico University. Thereafter, the human remains were taken to the Oklahoma Museum of Natural History, and then to the Museum of the Great Plains. The human remains belong to a child believed to be 5-10 years old of unknown sex. No known individual was identified. The 11 associated funerary objects are three faunal fragments and eight flakes.

On October 5, 1985, human remains representing, at minimum, six individuals were removed from site 34GR6 in Greer County, OK, by Reclamation archeologists after local collectors informed Reclamation that human remains were eroding at the shoreline. The human remains were briefly stored at the Reclamation office in Amarillo, TX, and Eastern New Mexico University while undergoing initial analysis. From there, the human remains were moved to the Oklahoma Museum of Natural History, and then to the Museum of the Great Plains. The human remains belong to four adults of unknown sex or age and two adults believed to be, respectively, 30-35 years old and 50+ years old of unknown sex. No known individuals were identified. No associated funerary objects are present.

Archeological sites 34GR5 and 34GR6 are located adjacent to one another. Radiocarbon dating performed in 1985 demonstrate that sites 34GR5 and 34GR6 were occupied during the two periods—1,270 +/− 90 B.P. and 1,390 +/− 90 B.P. The 120-year gap between the two dates is a reasonable period for a single group to occupy a location. The temper, paste, and thickness of the sherds in the burial pit fill are consistent with Stafford Cordmarked ceramics. This pottery type is commonly affiliated with the Custer Phase (A.D. 800-1100) and less frequently with the Washita River Phase (A.D. 1100-1450).

Sometime between 1964 and1995, human remains representing, at minimum, one individual were removed from site 34GR7 in Greer County, OK. In May of 1995, a Reclamation archeologist obtained the human remains during meetings with local collectors. The human remains were transported to Wichita State University for inventorying and then taken to the Sam Noble Oklahoma Museum of Natural History. Subsequently, they were taken to the Museum of the Great Plains. The human remains belong to a subadult of unknown sex. No known individual was identified. No associated funerary objects are present.

On June 26, 1971, human remains representing, at minimum, one individual were removed from the Taylor site (34GR8) in Greer County, OK. The human remains were found by local collectors and submitted to the Oklahoma State Bureau of Investigation. The human remains were later transferred to the Oklahoma Museum of Natural History, and then to the Museum of the Great Plains. The human remains belong to an adult female believed to be 40-50 years old. No known individual was identified. No associated funerary objects are present.

On June 3, 1964, human remains representing, at minimum, one individual were removed from the Lone Wolf site (34KI2) in Kiowa County, OK. On March 8, 1995, Reclamation observed the human remains at the Museum of the Great Plains. Documentation accompanying the human remains suggested that the human remains and associated funerary objects had been collected on June 3, 1964. The human remains are currently at the Museum of the Great Plains. They belong to an adult male believed to be 40-45 years old. No known individuals were identified. No associated funerary objects are present. (A point tip, Olivella shell beads, and mussel shell might possibly be associated funerary objects, but none of these objects was found at the Museum of the Great Plains during visits by Reclamation on March 8, 1995 and in 2021.)

On June 26, 1964, human remains representing, at minimum, one individual were removed from the Lone Wolf site (34KI2) in Kiowa County, OK. On March 8, 1995, Reclamation observed the human remains were observed at the Museum of the Great Plains. Documentation accompanying the human remains stated how the remains were found and suggested that a local collector had some associations with the remains. The human remains are at the Museum of the Great Plains. They belong to an adult male believed to be 40-45 years old. No known individual was identified. No associated funerary objects are present.

On November 13 and 29, 1954, human remains representing, at minimum, one individual were removed from site 34KI3 in Kiowa County, OK, by a local collector. On March 31, 1955, the collector donated the human remains to the Stovall Museum. On October 9, 1964, the remains were sent to the University of Colorado Boulder for analysis. The human remains belong to an adult female believed to be 30-40 years old. No known individual was identified. No associated funerary objects are present.

Sometime between 1964 and 1995, human remains representing, at minimum, two individuals were removed from site 34KI3 in Kiowa County, OK. The human remains were surface collected by local collectors. In May of 1995, Reclamation obtained these human remains during meetings with local collectors, at which time the remains were transported to Wichita State University for inventorying. In May 1995, Reclamation moved the human remains to the Museum of the Great Plains. The human remains belong to an adult of unknown sex and age and a child believed to be 1 year old of unknown sex. No known individuals were identified. No associated funerary objects are present.

On March 14, 1965, human remains representing, at minimum, one individual were removed from site 34KI4 in Kiowa County, OK. On March 7-8, 1995, the human remains were observed during a visit to the Museum of the Great Plains. A note accompanying the human remains contains the local collector's name and a date of March 14, 1965. The human remains belong to an adult female believed to be 40-45 years old. No known individual was identified. The one associated funerary object is a chert core.

Sometime between 1964 and1995, human remains representing, at minimum, one individual were removed from site 34KI6 in Kiowa County, OK, by local collectors. In May of 1995, Reclamation obtained these human remains during meetings with local collectors. The human remains were transported to Wichita State University for inventorying and then were moved to the Museum of the Great Plains. The human remains belong to an adult of unknown sex or age. No known individual was identified. No associated funerary objects are present.

The human remains detailed in this notice were determined to be Native American based on their archeological context and collection history. No lineal descendants associated with the burials have been identified. Archeological, ethnohistoric, ethnographic, and tribal oral traditional information support the finding that the human remains and associated funerary objects listed herein can be culturally affiliated with the Wichita and Affiliated Tribes (Wichita, Keechi, Waco, & Tawakonie), Oklahoma.

Determinations Made by the U.S. Department of the Interior, Bureau of Reclamation, Oklahoma-Texas Area Office

Officials of the U.S. Department of the Interior, Bureau of Reclamation, Oklahoma-Texas Area Office have determined that:

• Pursuant to 25 U.S.C. 3001(9), the human remains described in this notice represent the physical remains of 82 individuals of Native American ancestry.

• Pursuant to 25 U.S.C. 3001(3)(A), the 530 objects described in this notice are reasonably believed to have been placed with or near individual human remains at the time of death or later as part of the death rite or ceremony.

• Pursuant to 25 U.S.C. 3001(2), there is a relationship of shared group identity that can be reasonably traced between the Native American human remains and associated funerary objects and the Wichita and Affiliated Tribes (Wichita, Keechi, Waco, & Tawakonie), Oklahoma.

Additional Requestors and Disposition

Lineal descendants or representatives of any Indian Tribe or Native Hawaiian organization not identified in this notice that wish to request transfer of control of these human remains and associated funerary objects should submit a written request with information in support of the request to Kate Ellison, Bureau of Reclamation, 5924 NW 2nd Street, Suite 200, Oklahoma City, OK 73127, telephone (405) 470-4816, email kellison@usbr.gov, by June 13, 2022. After that date, if no additional requestors have come forward, transfer of control of the human remains and associated funerary objects to the Wichita and Affiliated Tribes (Wichita, Keechi, Waco, & Tawakonie), Oklahoma may proceed.

The U.S. Department of the Interior, Bureau of Reclamation, Oklahoma-Texas Area Office is responsible for notifying the Wichita and Affiliated Tribes (Wichita, Keechi, Waco, & Tawakonie), Oklahoma that this notice has been published.

Dated: May 4, 2022.
Melanie O'Brien,
Manager, National NAGPRA Program.

[FR Doc. 2022-10252 Filed 5-12-22; 8:45 am]

BILLING CODE 4312-52-P